FEDERAL ELECTION COMMISSION

11 CFR Part 110

[Notice 2017-14]

Internet Communication Disclaimers; Extension of Comment Period

AGENCY: Federal Election Commission.

ACTION: Proposed rule; extension of comment period.

SUMMARY: On October 10, 2017, the Federal Election Commission reopened the comment period on the Advance Notice of Proposed Rulemaking (“ANPRM”) seeking comment on whether to begin a rulemaking to revise its regulations concerning disclaimers on certain internet communications and, if so, on what changes should be made to those rules. The Commission has decided to extend the comment period for one business day due to technological difficulties.

DATES: The comment period for the ANPRM published October 13, 2011 (76 FR 63567), and reopened on October 10, 2017 (82 FR 46937), is extended. Comments must be received on or before November 13, 2017.

ADDRESSES: All comments must be in writing. Commenters are encouraged to submit comments electronically via the Commission's Web site at www.fec.gov/netdisclaimers or at http://www.fec.gov/fosers, reference REG 2011-02. Alternatively, commenters may submit comments in paper form, addressed to the Federal Election Commission, Attn.: Neven F. Stipanovic, Acting Assistant General Counsel, 999 E Street NW., Washington, DC 20463.

Each commenter must provide, at a minimum, his or her first name, last name, city, state, and zip code. All properly submitted comments, including attachments, will become part of the public record, and the Commission will make comments available for public viewing on the Commission's Web site and in the Commission's Public Records Office. Accordingly, commenters should not provide in their comments any information that they do not wish to make public, such as a home street address, personal email address, date of birth, phone number, social security number, driver's license number, or any information that is restricted from disclosure, such as trade secrets or commercial or financial information that is privileged or confidential.

FOR FURTHER INFORMATION CONTACT: Mr. Neven F. Stipanovic, Acting Assistant General Counsel, or Ms. Jessica Selinkoff, Attorney, 999 E Street NW., Washington, DC 20463, (202) 694-1650 or (800) 424-9530.

SUPPLEMENTARY INFORMATION: On October 10, 2017, the Commission reopened the comment period on an ANPRM published in the Federal Register seeking comment on whether and how to revise the rules at 11 CFR 110.11 regarding disclaimers on certain internet communications.¹ The comment period was scheduled to close at 11:59 p.m. on November 9, 2017, but the Commission experienced technological difficulties with its online comment system on the last day of the comment period. The Commission has therefore determined to extend the comment period for one business day, to close at 11:59 p.m. on November 13, 2017.

¹ See Internet Communication Disclaimers; Reopening of Comment Period, 82 FR 46937 (Oct. 10, 2017); see also Internet Communication Disclaimers, 76 FR 63567 (Oct. 13, 2011).

On behalf of the Commission.
Dated: November 9, 2017.
Steven T. Walther,
Chairman, Federal Election Commission.

[FR Doc. 2017-24747 Filed 11-9-17; 4:15 pm]

BILLING CODE 6715-01-P